DEPARTMENT OF COMMERCE

National Oceanic and Atmospheric Administration

50 CFR Parts 600 and 660

[RTID 0648-XE525]

Magnuson-Stevens Act Provisions; Fisheries Off West Coast States; Pacific Coast Groundfish Fishery Management Plan; Amendment 35; Notice of Availability

AGENCY: National Marine Fisheries Service (NMFS), National Oceanic and Atmospheric Administration (NOAA), Commerce.

ACTION: Notice of availability of proposed fishery management plan amendment; request for comments.

SUMMARY: NMFS announces that the Pacific Fishery Management Council (referred to as “the Council”) has submitted amendment 35 to the Pacific Coast Groundfish Fishery Management Plan (PCGFMP) to the Secretary of Commerce for review. If approved, amendment 35 would define stocks that are in need of conservation and management, consistent with the provisions and guidelines of the Magnuson-Stevens Fishery Conservation and Management Act (Magnuson-Stevens Act). Amendment 35 would define stocks for eight species within the fishery management unit. These species were prioritized because they are scheduled for stock assessments in 2025 or in 2027. Amendment 35 is necessary for NMFS to make stock status determinations, which in turn will help prevent overfishing, rebuild overfished stocks, and achieve optimum yield. Amendment 35 is administrative in nature and does not change harvest levels or timing and location of fishing, nor does it revise the goals and objectives or the management frameworks of the PCGFMP.

DATES: Comments on amendment 35 must be received no later than May 4, 2025.

ADDRESSES: You may submit comments on this document, identified by NOAA-NMFS-2025-0012, by the following method:

• Electronic Submission: Submit all electronic public comments via the Federal e-Rulemaking Portal. Go to https://www.regulations.gov and enter NOAA-NMFS-2025-0012 in the Search box. Click the “Comment” icon, complete the required fields, and enter or attach your comments.

Instructions: Comments must be submitted by the above method to ensure that the comments are received, documented, and considered by NMFS. Comments sent by any other method, to any other address or individual, or received after the end of the comment period, may not be considered. All comments received are a part of the public record and NMFS will post for public viewing on https://www.regulations.gov without change. All personal identifying information (e.g., name, address, etc.), confidential business information, or otherwise sensitive information submitted voluntarily by the sender is publicly accessible. NMFS will accept anonymous comments (enter “N/A” in the required fields if you wish to remain anonymous).

Electronic Access

This rulemaking is accessible via the internet at the Office of the Federal Register website at https://www.federalregister.gov. Background information and documents including an analysis for this action (referred to as “Analysis”), which addresses the statutory requirements of the Magnuson-Stevens Act are available from the Pacific Fishery Management Council's website at https://www.pcouncil.org.

FOR FURTHER INFORMATION CONTACT: Abbie Moyer, Fishery Management Specialist, at 206-305-9601 or abbie.moyer@noaa.gov.

SUPPLEMENTARY INFORMATION: NMFS manages the groundfish fisheries in the exclusive economic zone (EEZ) seaward of Washington, Oregon, and California under the PCGFMP. The Council prepared and NMFS implemented the PCGFMP under the authority of the Magnuson-Stevens Act, 16 U.S.C. 1801 et seq. and by regulations at 50 CFR parts 600 and 660. The Magnuson-Stevens Act requires that each regional fishery management council submit any fishery management plan (FMP) or plan amendment it prepares to NMFS for review and approval, disapproval, or partial approval by the Secretary of Commerce. The Magnuson-Stevens Act also requires that NMFS, upon receiving an FMP or amendment, immediately publish notification that the FMP or amendment is available for public review and comment. This notification announces that the proposed amendment 35 to the PCGFMP is available for public review and comment. NMFS will consider the public comments received during the comment period described above in determining whether to approve, partially approve, or disapprove amendment 35 to the PCGFMP.

Background

In 2021, NMFS was unable to make stock status determinations for stocks that were assessed in 2021, because the “stocks” for which the Council was expecting status determinations did not exist in the PCGFMP. At that time, the PCGFMP contained a list of over 80 species and did not describe whether each species is a single stock within the fishery management unit or if it is multiple (e.g., regional) stocks. NMFS requested that the Council undertake amendment 31 to define stocks for 14 of those species listed in the PCGFMP at its March 8-14, 2022 meeting in San Jose, California. The Council prioritized a sub-set of species, because they were subject to stock assessments in 2021 or were subject to stock assessments in 2023, and were therefore the most likely candidates to be the subject of NMFS' forthcoming status determinations, which are often based on new assessments. Amendment 31 was published on November 16, 2023 (88 FR 78677).

At its November 13-18, 2024 meeting in Costa Mesa, California, the Council recommended stock definitions for eight species of Pacific Coast groundfish (chilipepper rockfish, English sole, redbanded rockfish, rougheye/blackspotted rockfish (a cryptic pair), widow rockfish, yellowtail rockfish, and yelloweye rockfish) that will have stock assessments in 2025 or in 2027 (priority species) so that NMFS may be able to make stock status determinations. Amendment 35 would define stocks for eight species within the fishery management unit (FMU; the jurisdiction of the FMP from 3 to 200 nautical miles offshore between the United States border with Canada and the United States border with Mexico, which may also be referred to as “coastwide”) that require conservation and management.

The goal of this process is to create stock definitions for all Pacific coast groundfish species in need of conservation and management. Given time constraints, this process to develop stock definitions for all managed Pacific coast groundfish species is a multi-phase process. The Council is pursuing a process for stock definitions for the remaining species in the PCGFMP under another action. The current proposed amendment 35 overlaps with that action but will allow NMFS to make stock status determinations and allow the Council to initiate the 2027-2028 biennial harvest specifications and management measure process based upon new stock definitions for those species assessed in 2025. This amendment is administrative in nature, and the economic impacts, if any, will come when stock assessments are completed, the status of the stocks are determined by NMFS, and appropriate fishery management actions are taken by the Council.

During the development of amendment 31, the Council was advised by the Scientific and Statistical Committee (SSC) that indications of population structure within a species should be an indicator of whether stock status should be determined at a finer scale than coastwide. Therefore, the Council evaluated a literature review of the best scientific and biological information available for each species, which is appended to the Analysis developed for amendment 35, available on the Council website (see Electronic Access section).

The Analysis considered a single stock definition alternative for most of the priority species except yelloweye rockfish and yellowtail rockfish, as explained below. Generally, species with no known population structure, based on the literature review, or with known single-population structure based on genetic information, were considered under a single stock definition alternative. Based on best scientific information available along with past and recent fishery management and policy decisions, yellowtail rockfish was only considered under one alternative defining it as two stocks, one stock north of latitude (lat.) 40°10′ N and one stock south of lat. 40°10′ N. Yelloweye rockfish had no known indicators of population structure, but was noted by the SSC at the June 2024 Council meeting for having uncertainty in movement rates. Therefore, yelloweye rockfish was initially considered under two alternatives: one as a single stock definition and a second alternative defining it as two stocks (one as a Washington and Oregon stock and one as a California stock). The second alternative for yelloweye rockfish was later removed from further consideration due to insufficient scientific support to warrant stock structure finer than coastwide at the time.

The Analysis assumed each alternative stock definition was adopted, then applied the PCGFMP's harvest specifications framework to each stock to assess some of the biological, socioeconomic, and fishery management trade-offs that might be expected from implementation of future management actions based on the alternative stock definitions. Impacts of these stock definitions are expected to flow from future, subsequent action(s) to set harvest specifications and management measures for the stock(s), but the Analysis provided information for the Council to consider in making its decision. The Council considered these tradeoffs when making its final stock definition recommendations at its November 13-18, 2024 meeting. The following narrative provides species-specific information, in alphabetical order by common name, and rationale for the stock definition for each species that would be implemented by amendment 35.

Chilipepper Rockfish (Sebastes goodei)

Chilipepper rockfish (Sebastes goodei) range from British Columbia to the United States-Mexico border, with peak abundance near Cape Mendocino, California and declines north of Cape Blanco, Oregon. Chilipepper rockfish are an important commercial target species in California waters and were historically an important recreational target in southern California waters. There is no evidence of population structure for chilipepper rockfish, and information is limited on larval dispersal distances and adult movement rates.

Stock assessments have been conducted on a coastwide scale since 2007. Prior to 2007, chilipepper rockfish were assessed in the area south of lat. 40°10′ N where they are predominantly found. The 2007 chilipepper rockfish stock assessment was extended to their entire west coast range through waters off Oregon. To date, chilipepper rockfish have been managed with stock-specific harvest specifications south of lat. 40°10′ N and as part of the Shelf Rockfish Complex north of lat. 40°10′ N. The harvest specifications that are compared to mortality estimates to assess whether the species is subject to overfishing are derived from the coastwide stock assessment. The overfishing limit (OFL)/acceptable biological catch (ABC)/annual catch limit (ACL) is then apportioned to each area north and south of lat. 40°10′ N. Although the ACL scale is less than coastwide, by application of the harvest specifications framework in the PCGFMP, a coastwide ACL is calculated using a coastwide ACL control rule and then the ACL is subsequently apportioned north and south. Under a single coastwide stock definition, this management structure is assumed to continue and is not expected to trigger future allocative actions, increase management burden during the next biennial cycle compared to 2025-2026 or result in short-term or long-term biological impacts if status is determined at a coastwide scale. The only alternative the Council considered was a coastwide stock definition, as only a single geographic delineation clearly aligned well with the best scientific information available and aligns with past and recent fishery management and policy decisions for the species. Therefore, the Council recommended and NMFS is proposing to approve a single stock of chilipepper rockfish in the PCGFMP.

English Sole (Parophrys vetulus)

English Sole (Parophrys vetulus) range from Unimak Island in Alaska to Baja California, Mexico. English sole are primarily caught by groundfish bottom trawls. Current literature has found little genetic diversity among sampled individuals, and there is no evidence to support a stock delineation on a finer geographic scale than coastwide. The harvest specifications that are compared to mortality estimates to assess whether the species is subject to overfishing have been set at a coastwide scale. English sole's single, coastwide ACL is formally allocated in the PCGFMP between trawl and non-trawl fisheries. Defining English sole as a stock at a coastwide scale is not expected to trigger future allocative actions, increase management burden during the next biennial cycle compared to 2025-2026, or result in short-term or long-term biological impacts if status is determined at a coastwide scale. The only alternative the Council considered was a coastwide stock definition, as only a single geographic delineation clearly aligned well with past and recent fishery management and policy decisions for the species as well as best scientific information available. Therefore, the Council recommended and NMFS is proposing to approve a single stock of English sole in the FMP.

Redbanded Rockfish (Sebastes babcocki)

Redbanded rockfish (Sebastes babcocki) range from the Gulf of Alaska to southern California but are most abundant in southeast Alaska. Redbanded rockfish do not have a directed fishery and are considered a data-limited species. While population structure remains poorly understood, there are no known indications that the species has distinct geospatial population structure. To date, redbanded rockfish has not been fully assessed. Using the Depletion-Based Stock Reduction Analysis (DB-SRA) method, redbanded rockfish was included in estimates of sustainable yield for data poor stocks in the PCGFMP in 2010. Since then, revisions to the OFL contributions to correct several errors were made and have provided the current values used in harvest specifications and management. Redbanded rockfish are managed north and south of lat. 40°10′ N in the Slope Rockfish Complex. OFL values are apportioned to management areas north and south of lat. 40°10′ N based on cumulative catch data. ACL contribution is calculated using a coastwide ACL control rule and then the ACL contribution is subsequently apportioned north and south. Under a single coastwide stock definition, this management structure is assumed to continue and is not expected to trigger future allocative actions, increase management burden during the next biennial cycle compared to 2025-2026, or result in short-term or long-term biological impacts if status is determined at a coastwide scale. The only alternative the Council considered was a coastwide stock definition, as only a single geographic delineation aligned well with the best scientific information available, and is unlikely to require the Council to consider changes to fishery management and policy decisions for the species. Therefore, the Council recommended and NMFS is proposing to approve a single stock of redbanded rockfish in the PCGFMP.

Rougheye/Blackspotted Rockfishes (Sebastes aleutianus and Sebastes melanostictus)

Rougheye rockfish (Sebastes aleutianus) and blackspotted rockfish (Sebastes melanostictus) are a pair of cryptic species that share broad overlap in their depth and geographic distributions. They range from Japan to the Bering Sea and south to Point Conception, California. Although not targeted, rougheye/blackspotted rockfish are desirable and marketable and are often caught in the bottom trawl, midwater trawl and longline fisheries. It is very difficult to visually distinguish between the two species, and it wasn't until genetic studies in the early 2000s that the two separate species were identified and described. Therefore, they are treated in assessments and fishery management as a single cryptic species pair. The species have been assessed as a single geographic unit within the FMU since 2013. Rougheye/blackspotted rockfish are managed north and south of lat. 40°10′ N in the Slope Rockfish Complex. Coastwide OFL values are apportioned to management areas north and south of lat. 40°10′ N based on average historical catch. The ACL contribution is calculated using a coastwide ACL control rule and then the ACL contribution is subsequently apportioned north and south. Under a single coastwide stock definition, this management structure is assumed to continue and is not expected to trigger future allocative actions, increase management burden during the next biennial cycle compared to 2025-2027, or result in short-term or long-term biological impacts if status is determined at a coastwide scale. The Council recommended and NMFS is proposing a single stock of rougheye/blackspotted rockfish in the FMU due to a lack of scientific evidence of distinct population structure off the U.S west coast. A single geographic delineation aligned well with the best scientific information available and is unlikely to require the Council to consider changes to fishery management and policy decisions for the cryptic species pair.

Widow Rockfish (Sebastes entomelas)

Widow Rockfish (Sebastes entomelas) range from southeast Alaska to Baja California, Mexico and are most abundant from British Columbia to northern California. Widow rockfish are an important commercial species from British Columbia to central California and are a minor component in the recreational groundfish fishery. All life stages are pelagic, but older juveniles and adults are often associated with the bottom. Survey-based indices of abundance suggest similar biomass densities of widow rockfish from Washington to California. While population structure remains poorly understood, current literature found no genetic variation among widow rockfish along the California coast. There are no known indications that the species has distinct geospatial population structure. Using two models separated at Coos Bay, Oregon, the species has been assessed as a single geographic unit within the FMU since its first U.S west coast assessment in 1988, including throughout the period where it was managed under a rebuilding plan (2004-2014). In 2010, a coastwide assessment produced results comparable to a two-area model. The harvest specifications that are compared to mortality estimates to assess whether the species is subject to overfishing have been set at a coastwide scale throughout the period the species was managed under a rebuilding plan and in its current rebuilt status (2012-present). Defining widow rockfish as a stock at a coastwide scale is not expected to trigger future allocative actions, increase management burden during the next biennial cycle compared to 2025-2026, or result in short-term or long-term biological impacts if status is determined at a coastwide scale. The only alternative the Council considered was a coastwide stock definition, as only a single geographic delineation clearly aligned well with past and recent fishery management and policy decisions for the species as well as best scientific information available. Therefore, the Council recommended and NMFS is proposing to approve a single stock of widow rockfish in the PCGFMP.

Yelloweye Rockfish (Sebastes ruberrimus)

Yelloweye Rockfish (Sebastes ruberrimus) range from the western Gulf of Alaska to northern Baja California, Mexico and are common from Central California northward to the Gulf of Alaska. Yelloweye rockfish are caught coastwide in all sectors of the Pacific groundfish fishery but are more commonly caught with hook and line gears. Literature suggests there may be genetic separation between yelloweye rockfish in the Strait of Georgia (British Columbia) and the outer coasts of Washington but show the coastal populations are not genetically distinct from each other. Information on genetics, larval dispersal, and spatial variation in life history traits with which to assess stock structure for yelloweye rockfish is limited. Recent literature, however, suggests there may be a high degree of population connectivity along the U.S. west coast due to evidence of greater adult movement rates than were previously documented.

Using multiple area assessments, the species has been assessed as a single geographic unit within the FMU since its first U.S west coast assessment in 2001, including throughout the period where it has been managed under a rebuilding plan (2004-present). For over 20 years, the harvest specifications that are compared to mortality estimates to assess whether the species is subject to overfishing have been set at a coastwide scale. Defining yelloweye rockfish as a single coastwide stock is not expected to trigger future allocative actions, increase management burden during the next biennial cycle compared to 2025-2026, or result in short-term or long-term biological impacts if status is determined at a coastwide scale. The Council recommended and NMFS is proposing a single stock of yelloweye rockfish due to a lack of scientific evidence to support a discernable population structure. A single geographic delineation for yelloweye rockfish aligned well with past and recent fishery management and policy decisions for the species as well as best scientific information available.

Yellowtail Rockfish (Sebastes flavidus)

Yellowtail rockfish (Sebastes flavidus) range from the Aleutian Islands to Baja California, Mexico with peak abundance from British Columbia, Canada to Oregon. The species is commonly caught in both commercial and recreational fisheries throughout its range. Studies have shown a genetic break in yellowtail rockfish along the coast, indicating two separate stocks separated by Cape Mendocino, California (approximately one north of and one south of lat. 40°10′ N). Yellowtail rockfish is managed with stock-specific harvest specifications north of lat. 40°10′ N and within the southern Shelf Rockfish complex south of lat. 40°10′ N. Yellowtail rockfish on the U.S. west coast north of lat. 40°10′ N were first assessed in 1984, and there has never been an assessment of the southern population. Attempts have been made to assess the southern population using data-moderate methods, though, a southern model sufficiently robust for use in management could not be developed. The OFL contribution of yellowtail rockfish to the southern Shelf Rockfish complex is based on a DB-SRA estimate. Harvest specification values that are compared to mortality estimates to assess whether the species is subject to overfishing for the population north of lat. 40°10′ N are based on stock assessment work.

Defining yellowtail rockfish as a northern stock and a southern stock within the FMU is not expected to trigger future allocative actions, increase management burden during the next biennial cycle compared to 2025-2026, or result in short-term or long-term biological impacts if status is determined at that scale. The only alternative the Council considered was a two-stock definition (yellowtail rockfish north of lat. 40°10′ N and yellowtail rockfish south of lat. 40°10′ N), as only this geographic delineation clearly aligned well with past and recent fishery management and policy decisions for the species as well as best scientific information available. Therefore, the Council recommended and NMFS is proposing two yellowtail rockfish stocks in the PCGFMP.

Summary

The Council recommended defining 8 stocks for 8 species within the over 80 managed groundfish species within the FMU, as described in table 1. The Council has begun a comprehensive effort to define all remaining groundfish species in the FMP as part of a separate action.

Table 1—Groundfish Stocks Within the FMU of the PCGFMP and Their Boundaries, as Proposed To Be Amended Through Amendment 35
Stock | Species scientific name | Stock boundaries
Rockfish:
Chilipepper Rockfish | Sebastes goodei | Pacific West Coast FMU.
Redbanded Rockfish | S. babcocki | Pacific West Coast FMU.
Rougheye/Blackspotted Rockfish | S. aleutiamus/S. melanostictus | Pacific West Coast FMU.
Widow Rockfish | S. entomelas | Pacific West Coast FMU.
Yellowtail Rockfish North | S. flavidus | North of lat. 40°10′ N.
Yellowtail Rockfish South | S. flavidus | South of lat. 40°10′ N.
Yelloweye Rockfish | S. ruberrimus | Pacific West Coast FMU.
Flatfish:
English Sole | Parophrys vetulus | Pacific West Coast FMU.

Authority: 16 U.S.C. 1801 et seq.

Dated: February 28, 2025.
Karen H. Abrams,
Acting Director, Office of Sustainable Fisheries, National Marine Fisheries Service.

[FR Doc. 2025-03561 Filed 3-4-25; 8:45 am]

BILLING CODE 3510-22-P